POSTAL SERVICE

39 CFR Part 241

Post Office Organization and Administration: Establishment, Classification, and Discontinuance; Correction

AGENCY: Postal Service.

ACTION: Final rule; correction.

SUMMARY: On July 14, 2011, the Postal Service published an amendment to the rules concerning the establishment, classification, and discontinuance of post offices. That rule contained certain incorrect internal cross-references, which are corrected by this further rulemaking.

DATES: Effective Date: July 22, 2011.

FOR FURTHER INFORMATION CONTACT: Jim Boldt, (202) 268-6799.

SUPPLEMENTARY INFORMATION: The Postal Service published a final rule in the Federal Register on July 14, 2011 (76 FR 41413), amending the retail facility discontinuance regulations in 39 CFR part 241. In sections I.H (Notice to Customers Served by Suspended Facility) (76 FR 41416), I.K (Emergency Suspensions) (76 FR 41417), and I.O (Procedural Recommendations) (76 FR 41418) of the SUPPLEMENTARY INFORMATION in the preamble, the Postal Service erroneously cited 39 CFR 241.3(a)(4)(iii), which should have referred, in sections I.H and I.K, to subparagraph 241.3(a)(5)(iv) and, in section I.O, to subparagraph 241.3(a)(5)(iii).

In addition, subparagraph 241.3(a)(5)(iv) of the regulations contained in the final rule (76 FR 41421-22) contained erroneous cross-references to clause 241.3(a)(4)(i)(B) and subparagraph 241.3(a)(4)(iii), which should have referred to the respective provisions of paragraph 241.3(a)(5) instead. This final rule corrects the errors in 39 CFR 241.3(a)(5)(iv).

The Postal Service hereby adopts the following changes to 39 CFR part 241.

List of Subjects in 39 CFR Part 241

Organization and functions (government agencies), Postal Service.

Accordingly, 39 CFR part 241 is amended as follows:

PART 241—RETAIL ORGANIZATION AND ADMINISTRATION: ESTABLISHMENT, CLASSIFICATION, AND DISCONTINUANCE

1. The authority citation for 39 CFR part 241 continues to read as follows:

Authority: 39 U.S.C. 101, 401, 403, 404, 410, 1001.

§ 241.3 [Corrected]

2. In 39 CFR 241.3:

a. In the first sentence of paragraph (a)(5)(iv), remove “241.3(a)(4)(i)(B)” and add “241.3(a)(5)(i)(B)” in its place.

b. In the third sentence of paragraph (a)(5)(iv), remove “241.3(a)(4)(iii)” and add “241.3(a)(5)(iii)” in its place.

Stanley F. Mires,
Chief Counsel, Legislative.

[FR Doc. 2011-18481 Filed 7-21-11; 8:45 am]

BILLING CODE 7710-12-P